Title 3—

The President

Proclamation 9625 of June 29, 2017

To Modify Duty-Free Treatment Under the Generalized System of Preferences and for Other Purposes

By the President of the United States of America

A Proclamation

1. Pursuant to sections 501 and 503(a)(1)(A) of the Trade Act of 1974, as amended (the “1974 Act”) (19 U.S.C. 2461 and 2463(a)(1)(A)), the President may, after receiving the advice of the United States International Trade Commission (the “Commission”), designate certain articles as eligible for preferential tariff treatment under the Generalized System of Preferences (GSP) when they are imported from designated beneficiary developing countries.

2. Pursuant to sections 501, 503(a)(1)(A), and 503(b)(5) of the 1974 Act (19 U.S.C. 2463(b)(5)), and having received advice from the Commission in accordance with section 503(e) of the 1974 Act (19 U.S.C. 2463(e)), I have determined to designate certain articles as eligible articles when they are imported from beneficiary developing countries.

3. Pursuant to section 503(c)(1) of the 1974 Act (19 U.S.C. 2463(c)(1)), the President may withdraw, suspend, or limit application of the duty-free treatment accorded to specified articles under the GSP when imported from designated beneficiary developing countries.

4. Pursuant to section 503(c)(1) of the 1974 Act, and having considered the factors set forth in sections 501 and 502(c) of the 1974 Act (19 U.S.C. 2462(c)), I have determined to withdraw the application of duty-free treatment accorded to a certain article.

5. Section 503(c)(2)(A) of the 1974 Act (19 U.S.C. 2463(c)(2)(A)) subjects beneficiary developing countries, except those designated as least-developed beneficiary developing countries or beneficiary sub-Saharan African countries as provided in section 503(c)(2)(D) of the 1974 Act (19 U.S.C. 2463(c)(2)(D)), to competitive need limitations on the preferential treatment afforded to eligible articles under the GSP.

6. Pursuant to section 503(c)(2)(A) of the 1974 Act, I have determined that in 2016 certain beneficiary developing countries exported eligible articles in quantities exceeding the applicable competitive need limitations. I hereby terminate the duty-free treatment for such articles from such beneficiary developing countries.

7. Section 503(c)(2)(F)(i) of the 1974 Act (19 U.S.C. 2463(c)(2)(F)(i)) provides that the President may disregard the competitive need limitation provided in section 503(c)(2)(A)(i)(II) of the 1974 Act (19 U.S.C. 2463(c)(2)(A)(i)(II)) with respect to any eligible article from any beneficiary developing country if the aggregate appraised value of the imports of any such article into the United States during the preceding calendar year does not exceed the amount set forth in section 503(c)(2)(F)(ii) of the 1974 Act (19 U.S.C. 2463(c)(2)(F)(ii)).

8. Pursuant to section 503(c)(2)(F)(i) of the 1974 Act, I have determined that the competitive need limitation provided in section 503(c)(2)(A)(i)(II) of the 1974 Act should be disregarded with respect to certain eligible articles from certain beneficiary developing countries.

9. Section 503(d)(1) of the 1974 Act (19 U.S.C. 2463(d)(1)) provides that the President may waive the application of the competitive need limitations in section 503(c)(2) of the 1974 Act (19 U.S.C. 2463(c)(2)) with respect to any eligible article from any beneficiary developing country if certain conditions are met.

10. Pursuant to section 503(d)(1) of the 1974 Act, I have received the advice of the Commission on whether any industry in the United States is likely to be adversely affected by such waivers of the competitive need limitations provided in section 503(c)(2) of the 1974 Act. I have determined, based on that advice and the considerations described in sections 501 and 502(c) of the 1974 Act, and having given great weight to the considerations in section 503(d)(2) of the 1974 Act (19 U.S.C. 2463(d)(2)), that such waivers are in the national economic interest of the United States. Accordingly, I have determined that the competitive need limitations of section 503(c)(2) of the 1974 Act should be waived with respect to a certain eligible article from a certain beneficiary developing country.

11. Presidential Proclamation 8997 of June 27, 2013, suspended Bangladesh's designation as a beneficiary developing country for the purposes of the GSP. Presidential Proclamation 9333 of September 30, 2015, terminated Venezuela's designation as a beneficiary developing country for the purposes of the GSP. These proclamations made corresponding modifications to general note 4 of the Harmonized Tariff Schedule of the United States (HTS). Those modifications included technical errors, and I have determined that modifications to the HTS are necessary to correct them.

12. Presidential Proclamation 9466 of June 30, 2016, implemented the World Trade Organization Declaration on the Expansion of Trade in Information Technology Products (the “Declaration”) and, pursuant to section 111(b) of the Uruguay Round Agreements Act (19 U.S.C. 3521(b)), modified the HTS to include the schedule of duty reductions necessary to carry out the Declaration. Those modifications included technical errors, and I have determined that modifications to the HTS are necessary to correct them.

13. Presidential Proclamation 8097 of December 29, 2006, implemented modifications to the HTS, pursuant to section 1206(a) of the Omnibus Trade and Competitiveness Act of 1988 (the “1988 Act”) (19 U.S.C. 3006(a)), to include changes to the schedule considered necessary or appropriate by the Commission to accomplish the purposes of section 1205(a) of the 1988 Act (19 U.S.C. 3005(a)). Those modifications to the HTS were set out in Publication 3898 of the Commission, entitled “Modifications to the Harmonized Tariff Schedule of the United States under Section 1206 of the Omnibus Trade and Competitiveness Act of 1988,” which was incorporated by reference into Presidential Proclamation 8097. Annex I to that publication included a technical error, and I have determined that a modification to the HTS is necessary to correct it.

14. Presidential Proclamation 9549 of December 1, 2016, implemented modifications to the HTS, pursuant to section 1206(a) of the 1988 Act, to include changes to the schedule considered necessary or appropriate by the Commission to accomplish the purposes of section 1205(a) of the 1988 Act. Those modifications to the HTS were set out in Publication 4653 of the Commission, entitled “Modifications to the Harmonized Tariff Schedule of the United States under Section 1206 of the Omnibus Trade and Competitiveness Act of 1988 and for Other Purposes,” which was incorporated by reference into Presidential Proclamation 9549. Annex I to that publication included technical errors, and I have determined that modifications to the HTS are necessary to correct them.

15. Section 604 of the 1974 Act (19 U.S.C. 2483) authorizes the President to embody in the HTS the substance of the relevant provisions of that Act, and of other Acts affecting import treatment, and actions thereunder, including removal, modification, continuance, or imposition of any rate of duty or other import restriction.

NOW, THEREFORE, I, DONALD J. TRUMP, President of the United States of America, acting under the authority vested in me by the Constitution and the laws of the United States of America, including title V and section 604 of the 1974 Act, do proclaim that:

(1) In order to designate certain articles as eligible articles when imported from a beneficiary developing country for purposes of the GSP, the Rates of Duty 1-Special subcolumn for the corresponding HTS subheadings is modified as set forth in section A of Annex I to this proclamation.

(2) In order to provide that one or more countries should no longer be treated as beneficiary developing countries with respect to one or more eligible articles for purposes of the GSP, the Rates of Duty 1-Special subcolumn for the corresponding HTS subheadings and general note 4(d) to the HTS are modified as set forth in sections B, C, and D of Annex I to this proclamation.

(3) The competitive need limitation provided in section 503(c)(2)(A)(i)(II) of the 1974 Act is disregarded with respect to the eligible articles in the HTS subheadings and to the beneficiary developing countries listed in Annex II to this proclamation, effective July 1, 2017.

(4) A waiver of the application of section 503(c)(2) of the 1974 Act shall apply to the article in the HTS subheading and to the beneficiary developing country set forth in Annex III to this proclamation, effective July 1, 2017.

(5) In order to make technical corrections necessary to reflect the suspension of benefits under the GSP with respect to Bangladesh and the termination of benefits under the GSP with respect to Venezuela, the HTS is modified as set forth in Annex IV to this proclamation.

(6) In order to make technical corrections necessary to provide the intended tariff treatment to goods covered by the Declaration in accordance with Presidential Proclamation 9466 of June 30, 2016, and to certain goods as recommended in Publications 3898 and 4653 of the Commission, the HTS is modified as set forth in Annex V.

(7) The modifications to the HTS set forth in Annexes I, IV, and V to this proclamation shall be effective with respect to articles entered, or withdrawn from warehouse for consumption, on or after the dates set forth in the relevant sections of Annexes I, IV, and V.

(8) Any provisions of previous proclamations and Executive Orders that are inconsistent with the actions taken in this proclamation are superseded to the extent of such inconsistency.

IN WITNESS WHEREOF, I have hereunto set my hand this twenty-ninth day of June, in the year of our Lord two thousand seventeen, and of the Independence of the United States of America the two hundred and forty-first.

Billing code 3295-F7-P

[FR Doc. 2017-14063

Filed 6-29-17; 2:00 pm]

Billing code 7020-02-C